DEPARTMENT OF LABOR

Employment and Training Administration

[TA-W-40, 202]

Renaissance Woodworking, Inc. Brooklyn, New York; Notice of Termination of Investigation

Pursuant to Section 221 of the Trade Act of 1974, an investigation was initiated on October 15, 2001, in response to a petition that was filed on behalf of workers at Renaissance Woodworking, Inc., Brooklyn, New York.

The Department was unable to locate an official of the company to obtain the information necessary to conduct the investigation. Consequently, further investigation in this case would serve no purpose, and the investigation has been terminated.

Signed at Washington, DC this 2nd day of January, 2002.
Linda G. Poole,
Certifying Officer, Division of Trade Adjustment Assistance.

[FR Doc. 02-717 Filed 1-10-02; 8:45 am]

BILLING CODE 4510-30-M